NATIONAL SCIENCE FOUNDATION

Committee Management; Renewals

The National Science Foundation (NSF) management officials having responsibility for the advisory committees listed below have determined that renewing these groups for another two years is necessary and in the public interest in connection with the performance of duties imposed upon the Director, National Science Foundation (NSF), by 42 U.S.C. 1861 et seq. NSF completed the necessary consultation with the Committee Management Secretariat, General Services Administration.

Committees

Alan T. Waterman Award Committee, #1172

Advisory Committee for Technology, Innovation and Partnerships, #84684

Proposal Review Panel for Atmospheric and Geospace Sciences, #10751

Proposal Review Panel for Behavioral and Cognitive Sciences, #10747

Proposal Review Panel for Biological Infrastructure, #10743

Proposal Review Panel for Earth Sciences, #1569

Proposal Review Panel for Emerging Frontiers in Biological Sciences, #44011

Proposal Review Panel for Environmental Biology, #10744

Proposal Review Panel for Geosciences, #1756

Proposal Review Panel for Integrative Organismal Systems, #10745

Proposal Review Panel for Molecular and Cellular Biosciences, #10746

Proposal Review Panel for Ocean Sciences, #10752

Proposal Review Panel for Research on Learning in Formal and Informal Settings, #59

Proposal Review Panel for Social, Behavioral and Economic Sciences, #1766

Proposal Review Panel for Social and Economic Sciences, #10748

Proposal Review Panel for Integrative Activities, #2469

Proposal Review Panel for International Science and Engineering, #10749

Proposal Review Panel for Innovation and Technology Ecosystems, #84685

Proposal Review Panel Translational Impacts, #84683

Effective date for renewal is June 27, 2025. For more information, please contact Crystal Robinson, NSF, at (703) 292-8687.

Dated: June 27, 2025.
Crystal Robinson,
Committee Management Officer.

[FR Doc. 2025-12238 Filed 6-30-25; 8:45 am]

BILLING CODE 7555-01-P